SMALL BUSINESS ADMINISTRATION

Regulatory Fairness Hearing; Region IX—Springerville, Arizona; Cancellation

AGENCY: U.S. Small Business Administration (SBA).

ACTION: Notice of open hearing of Region IX Small Business Owners and Business Leaders in Springerville, Arizona, cancellation.

Federal Register Citation of Previous Announcement: 80 FR 49296, August 17, 2015.

Previously Announced Time and Date of The Meeting: Wednesday, September 9, 2015, 8:30 a.m.-5:00 p.m. (MST).

Changes in the Meeting: Hearing Canceled: Due to budgetary constraints and logistical issues, the hearing on Wednesday, September 9, 2015, in Springerville, AZ from 8:30 a.m. to 5:00 p.m. (MST) must be postponed to a later date.

Contact Person for More Information: José Méndez, Case Management Specialist, Office of the National Ombudsman, 409 3rd Street SW., Suite 7125, Washington, DC 20416, by fax (202) 481-5719, by email at ombudsman-events@sba.gov, by phone (202) 205-6178.

Dated: September 3, 2015.
Miguel J. L'Heureux,
SBA Committee Management Officer.

[FR Doc. 2015-22981 Filed 9-11-15; 8:45 am]

BILLING CODE P